DEPARTMENT OF COMMERCE

National Oceanic and Atmospheric Administration

RIN: 0648-XM44

Western Pacific Fishery Management Council; Public Teleconference Meeting

AGENCY: National Marine Fisheries Service (NMFS), National Oceanic and Atmospheric Administration (NOAA), Commerce

ACTION: Notice of a public meeting.

SUMMARY: The Western Pacific Fishery Management Council (Council) will hold a teleconference call meeting of the Council's archipelagic Plan Teams (PTs).

DATES: The meeting of the PTs will be held from 1 p.m. to 4 p.m. (Hawaii Standard Time) (12 noon to 3 p.m. in American Samoa) on Thursday, January 15, 2009 (9 a.m. to 12 noon on Friday, January 16, 2009 in Guam and the Commonwealth of the Northern Mariana Islands). For specific times, and the agenda, see SUPPLEMENTARY INFORMATION.

ADDRESSES: The teleconference meeting of the PTs will be held at the Western Pacific Fishery Management Council conference room, 1164 Bishop Street, Suite 1400, Honolulu, HI. For participants residing in American Samoa, the Northern Mariana Islands, Guam, Hawaii and the continental United States, the PTs telephone conference call-in-number is: 1-888-482-3560; Access Code; 5228220. For Guam and international participants, the call-in-number is: 1-647-723-3959; Access Code: 5228220.

FOR FURTHER INFORMATION CONTACT: Kitty M. Simonds, Executive Director; telephone: (808) 522-8220.

SUPPLEMENTARY INFORMATION: The PTs will meet to discuss the following agenda items.

January 15, 2009, 1 p.m. to 4 p.m. (HST)

1. Introductions

2. Review draft “Risk Ranked” list of management unit species by Archipelago

a. American Samoa

b. Commonwealth of the Northern Mariana Islands

c. Guam

d. Hawaii & Pacific Remote Island Areas

3. Establishment of annual catch limits (ACLs) for non-pelagic species with known maximum sustainable yield (MSY) values

4. Emerging issues

5. Plan Team Discussion and Recommendations

6. Other Business

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: December 23, 2008.
Tracey L. Thompson,
Acting Director, Office of Sustainable Fisheries, National Marine Fisheries Service.

[FR Doc. E8-30989 Filed 12-29-08; 8:45 am]

BILLING CODE 3510-22-S